DEPARTMENT OF THE INTERIOR

National Park Service

[NPS-WASO-NAGPRA-NPS0037405; PPWOCRADN0-PCU00RP14.R50000]

Notice of Inventory Completion: California State University, Sacramento, Sacramento, CA

AGENCY: National Park Service, Interior.

ACTION: Notice.

SUMMARY: In accordance with the Native American Graves Protection and Repatriation Act (NAGPRA), California State University, Sacramento has completed an inventory of human remains and associated funerary objects and has determined that there is a cultural affiliation between the human remains and associated funerary objects and Indian Tribes in this notice. The human remains and associated funerary objects were removed from Sacramento County, CA.

DATES: Repatriation of the human remains and associated funerary objects in this notice may occur on or after March 25, 2024.

ADDRESSES: Dr. Mark Wheeler, Chief of Staff to President Luke Wood, California State University, Sacramento, 6000 J Street Sacramento, CA 95819, telephone (916) 460-0490, email mark.wheeler@csus.edu.

SUPPLEMENTARY INFORMATION: This notice is published as part of the National Park Service's administrative responsibilities under NAGPRA. The determinations in this notice are the sole responsibility of California State University, Sacramento. The National Park Service is not responsible for the determinations in this notice. Additional information on the determinations in this notice, including the results of consultation, can be found in the inventory or related records held by California State University, Sacramento.

Description

Associated funerary objects were removed from CA-SAC-16 (also known as the Bennett Site) in Sacramento County, CA, over a period of more than seven decades by several institutions, agencies, and individuals. Sacramento State's collections stem from a donation made to the University by the estates of Anthony Zallio and Charles McKee, a 1950s excavation by the University under the direction of Richard Reeve, collections transferred to the University in 1977 from American River College (excavation led by Charles Gebhardt), a 1971 excavation by the University led by Ann Peak, and a 1990 excavation by Far Western Anthropological Group who donated the collection to the University. Portions of the collection have been previously published in the Federal Register and repatriated to the Shingle Springs Band of Miwok Indians, Shingle Springs Rancheria (Verona Tract), California. An additional 338,273 associated funerary objects have been identified by the Tribe and consist of baked clay objects; faunal and floral remains; flaked and ground stones; historic materials; modified bones, shells, and stones; unmodified stones; ash, column, flotation, wood, and soil samples; pigments; quartz crystals; asphaltum; unidentified objects; and manuports. Of this number, at least 1,672 objects are currently missing, and California State University, Sacramento continues to look for them.

Human remains representing, at minimum, one individual were removed from site CA-SAC-26 (also known as Pujune) in Sacramento County, CA. These human remains and associated funerary objects came into the University's possession through excavations conducted in the 1950s under the direction of Richard Reeve and Clifford Curtice for the University; and donations made by the estates of Anthony Zallio and Charles McKee. Occupation of the site is estimated to have primarily occurred during the Late through Historic periods. The 1,837 associated funerary objects consist of baked clay objects; faunal and floral remains; flaked and ground stones; historic materials; modified bones, shells, and stones; unmodified stones; cordage fragments; ash; pigments; quartz crystals; and radiocarbon and pollen samples. Of this number, at least 20 objects are currently missing and California State University, Sacramento continues to look for them.

Human remains representing, at minimum, 68 individuals were removed from site CA-SAC-31 (also known as Sek) in Sacramento County, CA. These human remains and associated funerary objects came into the University's possession through excavations conducted in the 1960s and 1970s under the direction of Jerald Johnson, John Beck, Ann Peak and Consiglio. Occupation of the site is estimated to have primarily occurred during the Middle through Historic periods. The 29,765 associated funerary objects consist of baked clay objects; faunal and floral remains; flaked and ground stones; historic materials; modified bones, shells, and stones; unmodified stones; manuports; pigments; unidentified materials; and midden and ash samples. Of this number, at least 11 objects are currently missing and California State University, Sacramento continues to look for them.

Human remains representing, at minimum, 16 individuals were removed from site CA-SAC-32 (also known as Joe Mound) in Sacramento County, CA. These human remains and associated funerary objects came into the University's possession through excavations conducted in the 1950s under the direction of Richard Reeve. The age of the site is not known. The six associated funerary objects consist of faunal remains; modified bones; and flaked stones. Of this number, at least one object is currently missing and California State University, Sacramento continues to look for it. Additional objects may be missing, which may include other categories of artifacts not listed here.

Human remains representing, at minimum, 18 individuals were removed from site CA-SAC-192 (also known as Kadema) in Sacramento County, CA. These human remains and associated funerary objects came into the University's possession through excavations conducted by the University from 1959-1960 under the direction of William Beeson for a field school course; a 1977 transfer from American River College; miscellaneous small collections donated to the University by Inlow Cresta, David Boloyan and others; and a 1961 excavation led by William Olsen (collection donated to the University in the 1960s from the State Indian Museum). Occupation of the site is estimated to have primarily occurred during the Late through Historic periods. The 32,338 associated funerary objects consist of baked clay objects; faunal and floral remains; flaked and ground stones; historic materials; modified bones, shells, and stones; unmodified stones; ash; textiles; basketry fragments; quartz crystals; pigments; unidentified materials; and soil samples. Of this number, at least 1,533 objects are currently missing and California State University, Sacramento continues to look for them.

Human remains representing, at minimum, one individual were removed from site CA-SAC-199 in Sacramento County, CA. These human remains and associated funerary objects came into the University's possession through excavations conducted by the University in the 1950s and 1980s. Occupation of the site is estimated to have primarily occurred during the Late through Historic periods. The 15 associated funerary objects consist of faunal remains; flaked and ground stones; and modified shells, and stones. An unknown number of objects may be missing from the collection, including those that fall under different artifact categories than what is listed, and California State University, Sacramento continues to look for them.

Cultural Affiliation

The human remains and associated funerary objects in this notice are connected to one or more identifiable earlier groups, tribes, peoples, or cultures. There is a relationship of shared group identity between the identifiable earlier groups, tribes, peoples, or cultures and one or more Indian Tribes. The following types of information were used to reasonably trace the relationship: anthropological, archeological, folkloric, geographical, historical, kinship, linguistic, oral traditional, and expert opinion.

Determinations

Pursuant to NAGPRA and its implementing regulations, and after consultation with the appropriate Indian Tribes, California State University, Sacramento has determined that:

• The human remains described in this notice represent the physical remains of 104 individuals of Native American ancestry.

• The 402,234 objects described in this notice are reasonably believed to have been placed with or near individual human remains at the time of death or later as part of the death rite or ceremony.

• There is a relationship of shared group identity that can be reasonably traced between the human remains and associated funerary objects described in this notice and the Buena Vista Rancheria of Me-Wuk Indians of California; Chicken Ranch Rancheria of Me-Wuk Indians of California; Ione Band of Miwok Indians of California; Jackson Band of Miwuk Indians; Shingle Springs Band of Miwok Indians, Shingle Springs Rancheria (Verona Tract), California; United Auburn Indian Community of the Auburn Rancheria of California; and the Wilton Rancheria, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 25, 2024. If competing requests for repatriation are received, California State University, Sacramento must determine the most appropriate requestor prior to repatriation. Requests for joint repatriation of the human remains and associated funerary objects are considered a single request and not competing requests. California State University, Sacramento is responsible for sending a copy of this notice to the Indian Tribes identified in this notice.

This notice was submitted after the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 9, 2024.
Melanie O'Brien,
Manager, National NAGPRA Program.

[FR Doc. 2024-03572 Filed 2-21-24; 8:45 am]

BILLING CODE 4312-52-P